DEPARTMENT OF HEALTH AND HUMAN SERVICES

Office of Inspector General

Program Exclusions: December 2003

AGENCY: Office of Inspector General, HHS.

ACTION: Notice of program exclusions.

During the month of December 2003, the HHS Office of Inspector General imposed exclusions in the cases set forth below. When an exclusion is imposed, no program payment is made to anyone for any items or services (other than an emergency item or service not provided in a hospital emergency room) furnished, ordered or prescribed by an excluded party under the Medicare, Medicaid, and all Federal Health Care programs. In addition, no program payment is made to any business or facility, e.g., a hospital, that submits bills for payment for items or services provided by an excluded party. Program beneficiaries remain free to decide for themselves whether they will continue to use the services of an excluded party even though no program payments will be made for items and services provided by that excluded party. The exclusions have national effect and also apply to all Executive Branch procurement and non-procurement programs and activities.

Subject name | Address | Effective date
Program-Related Convictions:
Allmon, Jeffrey | Centralia, WA | 1/20/2004
Archon, Vashon | New Iberia, LA | 1/20/2004
Armenta, Lourdes | Anaheim, CA | 9/22/2003
Broadnax, Lashayna | Silver Creek, MS | 1/20/2004
Brooks, Nickie | Cincinnati, OH | 1/20/2004
Brown, Anetha | Jackson, MS | 1/20/2004
Brown, Renarda | Jackson, MS | 1/20/2004
Bruce, James | San Bernardino, CA | 1/20/2004
Bryant, Joyce | Pompano Beach, FL | 1/20/2004
Bryant, Joyce | Pompano Beach, FL | 1/20/2004
Cabrera, Teresa | La Habra, CA | 1/20/2004
Carney, Diane | Emmetsburg, IA | 1/20/2004
Coen, Lenoris | Ivydale, WV | 1/20/2004
Cruz-Gomez, Maria | Salt Lake City, UT | 1/20/2004
Deburger, Donna | Goodyear, AZ | 1/20/2004
Edwards, Alta | West Point, MS | 1/20/2004
Elshingety, Musa | Minersville, PA | 1/20/2004
Faenza, Matthew | Ringwood, NJ | 1/20/2004
Flores-Meiggs, Mirtha | Salt Lake City, UT | 1/20/2004
Frumkin, Eli | Great Neck, NY | 1/20/2004
Gootgeld, Donna | Hollywood, FL | 1/20/2004
Graham, Willie | St Paul, MN | 1/20/2004
Green, Donald | Cumberland, MD | 1/20/2004
Herbst, Robert | Independence, KY | 1/20/2004
Huerta, Albert | Montgomery, PA | 1/20/2004
Kai, Lyle | Kailua, HI | 1/20/2004
Kirshner, Howard | Hewlett Harbor, NY | 1/20/2004
Kozelka, Charles | Cleveland, OH | 1/20/2004
Lombardi, Luis | Lawndale, CA | 1/20/2004
Lopez-Falcone, Juan | Miami, FL | 1/20/2004
Mitchell, Melody | Colorado Springs, CO | 1/20/2004
Moody, Carthan | Morgantown, WV | 1/20/2004
Mullins, Jeannine | Columbus, OH | 1/20/2004
Okon, Martin | Los Angeles, CA | 1/20/2004
Orozco, Raquel | Temecula, CA | 9/22/2003
Pacheco, Michael | Passaic, NJ | 1/20/2004
Parodi, Leroy | Las Vegas, NV | 1/20/2004
Reliable Medical Care, Inc | Las Vegas, NV | 1/20/2004
Robbins-Fitzgerald, Lynn | New York, NY | 1/20/2004
Rodriguez, Jackeline | Draper, UT | 1/20/2004
RX 2000 Pharmacy, Inc | Jersey City, NH | 1/20/2004
Sadati, Liane | Miami Lakes, FL | 1/20/2004
Siegfried, Susan | Chaska, MN | 1/20/2004
Simmons, Sandra | Fontana, CA | 1/20/2004
Slone, Phillip | Centerville, OH | 1/20/2004
Slone, Sharon | Marion, OH | 1/20/2004
Stamm, Amie | Arnold, MO | 1/20/2004
Torres, Rafaela | Salt Lake City, UT | 1/20/2004
Tye, Dora | Phoenix, AZ | 1/20/2004
Valenzuela, Jessica | Salt Lake City, UT | 1/20/2004
Ventura, America | Long Beach, CA | 1/20/2004
Wells, Dennis | Beatrice, NE | 1/20/2004
Westcare Transport, Inc | Culver City, CA | 1/20/2004
Williamson, Tammy | Seattle, WA | 1/20/2004
Felony Conviction For Health Care Fraud:
Bruder, Gary | Wellington, FL | 1/20/2004
Cichowicz, Wayne | Cicero, IL | 1/20/2004
Durban, Tacy | Sebree, KY | 1/20/2004
Hicks, Brenda | Mansfield, OH | 1/20/2004
Mills, Gregory | Chillicothe, OH | 1/20/2004
Paolino, Richard | Houtzdale, PA | 1/20/2004
Shields, Donna | Aurora, CO | 1/20/2004
Thomas, Rosie | Jackson, MS | 1/20/2004
Three Irons, Gale | Hardin, MT | 1/20/2004
Welsh, Eddie | Dover, NH | 1/20/2004
Felony Controlled Substance Conviction:
Amendola, James | Philadelphia, PA | 1/20/2004
Bires, Patti | Greensburg, PA | 1/20/2004
Brown, Jo-Ellen | Des Moines, IA | 1/20/2004
Brown, Theresa | Ligonier, PA | 1/20/2004
Collier, Wesley | Waymart, PA | 1/20/2004
Dimartino, Carrado | Belmont, MA | 1/20/2004
Feher, Elissa | Fort Gratiot, MI | 1/20/2004
Frazier, Rena | Newberry, SC | 1/20/2004
Kennedy, Lesley | Cincinnati, OH | 1/20/2004
McCool, Elizabeth | Staunton, VA | 1/20/2004
Nguyen, Thomas | New Cumberland, PA | 1/20/2004
Oltman, Deborah | Chapin, IA | 1/20/2004
Posner, Donny | Simi Valley, CA | 1/20/2004
Raab, Terri | Jamesburg, NJ | 1/20/2004
Richard, John | Greenwood, AR | 1/20/2004
Patient Abuse/Neglect Convictions:
Arnett, Lowell | Lexington, KY | 1/20/2004
Calder, Patricia | Canton, SD | 1/20/2004
Caneday, Michael | Canon City, CO | 1/20/2004
Council, Michael | Baltimore, MD | 1/20/2004
Eldredge, Allen | Collinga, CA | 1/20/2004
Harjochee, Harbor | Wetumka, OK | 1/20/2004
Kaiser, Charles | Chesterfield, MO | 1/20/2004
Legault, Dale | Ogdensburg, NY | 1/20/2004
Maddox, Neitra | Conley, GA | 1/20/2004
Pardede, Suherman | Tulsa, OK | 1/20/2004
Piper, James | Madison, WI | 1/20/2004
Platt, Lisa | Anchorage, AK | 1/20/2004
Reynolds, Charlene | Mountain Home, AR | 1/20/2004
Robinson, Roy | Chattanooga, TN | 1/20/2004
Soesbe, Bob | Gregory, SD | 1/20/2004
Taylor, Dale | Farnham, VA | 1/20/2004
Woodard, Dean | Myrtle Beach, SC | 1/20/2004
Conviction For Health Care Fraud:
Stevens, Rayne | Green Bay, WI | 1/20/2004
Controlled Substance Convictions:
Trunck, William | Waldoboro, ME | 1/20/2004
License Revocation/Suspension/Surrendered:
Adame, Antonio | San Jacinto, CA | 1/20/2004
Adamson, Robin | Delaware, OH | 1/20/2004
Allard, Angela | Evansville, IN | 1/20/2004
Allen, Karen | Jacksonville, FL | 1/20/2004
Allen, Patricia | Anderson, IN | 1/20/2004
Alperstein, Arnold | Owings Mills, MD | 1/20/2004
Appell, Antoinette | Homosassa, FL | 1/20/2004
Armstrong, Dion | New Orleans, LA | 1/20/2004
Askevich, Minnie | Santa Ana, CA | 1/20/2004
Babbs, Mary | Hot Springs, AR | 1/20/2004
Baldwin, Kathy | Big Flat, AR | 1/20/2004
Bartles, Bobbi | Clarinda, IA | 1/20/2004
Benedict, Autumn | Wesley Chapel, FL | 1/20/2004
Bracamontes, Geronimo | Sonoma, CA | 1/20/2004
Bradford, Brenda | Baltimore, MD | 1/20/2004
Braswell, Patricia | Ocean Springs, MS | 1/20/2004
Brigando, Marianne | Edison, NJ | 1/20/2004
Brown, David | Phoenix, AZ | 1/20/2004
Brown, Garry | Piedmont, AL | 1/20/2004
Bruno, Christina | Rolla, MO | 1/20/2004
Bussey, John | Atlanta, GA | 1/20/2004
Butts, Lori | Pascoag, RI | 1/20/2004
Byer, Lauri | Holicong, PA | 1/20/2004
Callaway, Angelia | Houston, TX | 1/20/2004
Cantu, Rudolf | Kingwood, TX | 1/20/2003
Carlon, Kimberly | Long Beach, CA | 1/20/2004
Cash, Julia | Staunton, VA | 1/20/2004
Casoria, Mary | Lawrenceville, GA | 1/20/2004
Chambers, Carol | Irvington, NJ | 1/20/2004
Chiaramonte, Evelyn | Mesa, AZ | 1/20/2004
Clabaugh, Dawn | South Bend, IN | 1/20/2004
Cliche, Benoit | Miami, FL | 1/20/2004
Cogswell, Jeanie | Urbana, IL | 1/20/2004
Coleman, Lynn | Mesa, AZ | 1/20/2004
Collette, Lisa | Ft. Myers, FL | 1/20/2004
Colonna, Vincent | Cape Coral, FL | 1/20/2004
Coon, Michael | Port Orange, FL | 1/20/2004
Cooper, Marie | Charlotte, NC | 1/20/2004
Copeland, Reid | Sedan, KS | 1/20/2004
Cowan Indorf Paulk, Linda | Mustang, OK | 1/20/2004
Croke, Judith | Yukon, OK | 1/20/2004
Dalton, Larry | Colorado Springs, CO | 1/20/2004
Danclar, Wayne | Riverdale, GA | 1/20/2004
Davidson, Richard | Shelton, WA | 1/20/2004
Davis, Lisa | Clinton, UT | 1/20/2004
Dean, Ryan | Davie, FL | 1/20/2004
Defazio, Ruth | The Villages, FL | 1/20/2004
Dennison, Randy | Orion, IL | 1/20/2004
Dickinson, Lynda | Mobile, AL | 1/20/2004
Douglass, Judith | Mendota, IL | 1/20/2004
Duncan, Kathleen | Lake Worth, FL | 1/20/2004
Dunn, Sheila | Newport, RI | 1/20/2004
Dutton, Edward | Macon, GA | 1/20/2004
Eie, Yvonne | Orlando, FL | 1/20/2004
Ellis, Daryl | Phenix City, AL | 1/20/2004
Elsworth, Terry | St. Petersburg, FL | 1/20/2004
Enriquez, Javier | Avondale, AZ | 1/20/2004
Evans, Cathy | Arkadelphia, AR | 1/20/2004
Fields, Rebecca | Perkins, OK | 1/20/2004
Fitzgerald, Dawn | Tucson, AZ | 1/20/2004
Foley, Edwin | Santa Clara, CA | 1/20/2004
Ford, Michelle | Lynchburg, VA | 1/20/2004
Foss-McGaha, Lorrie | Huntsville, AL | 1/20/2004
Foster, Steven | Dalton, GA | 1/20/2004
Fox, Geoffrey | Mount Pleasant, MI | 1/20/2004
Fulbright, Valera | McLoud, OK | 1/20/2004
Gamble, Yolanda | St. Petersburg, FL | 1/20/2004
Geiger, Douglas | Griffin, GA | 1/20/2004
Gelb, Jack | Stamford, CT | 1/20/2004
Gentile, Stephen | Malabar, FL | 1/20/2004
Gilles, Cesar | Los Angeles, CA | 1/20/2004
Gleason, Patricia | Denham Springs, LA | 1/20/2004
Gomes, Michael | Port St Lucie, FL | 1/20/2004
Gooberman, Lance | Merchantville, NJ | 1/20/2004
Grajeda, Estella | North Hills, CA | 1/20/2004
Guerrero, Maria | Surprise, CA | 1/20/2004
Guerrero, Raul | S. Bound Bro, NJ | 1/20/2004
Guerrero, Savino | Rosemead, CA | 1/20/2004
Gunderson, Marla | Cape Coral, FL | 1/20/2004
Haddad, Tina | Shawnee, OK | 1/20/2004
Hatcher, Larry | Bellville, TX | 1/20/2004
Holliday, Beverly | Commerce City, CO | 1/20/2004
Ingmire, Josh | Spokane, WA | 1/20/2004
Jacks, Jonathan | Lacoochee, FL | 1/20/2004
Jeffrey, Suellen | Tacoma, WA | 1/20/2004
Jones, Kylie | Wagoner, OK | 1/20/2004
Kean, Deborah | Linton, IN | 1/20/2004
Khalaf, Omar | Birmingham, AL | 1/20/2004
Krasny, Elvira | Stamford, CT | 1/20/2004
Kremer, Svetlana | Huntingdon Valley, PA | 1/20/2004
Lamb, John | Plymouth, NC | 1/20/2004
Lee, Melissa | Crystal Springs, MS | 1/20/2004
Lepoff, Norman | Tustin, CA | 1/20/2004
Levy, Karen | Rome, GA | 1/20/2004
Lewis, Carolyn | Tucson, AZ | 1/20/2004
Lipford, Tim | Greenwood, FL | 1/20/2004
Lohr, Patricia | Lexington, NC | 1/20/2004
Longas, Philip | Blountville, TN | 1/20/2004
Lozzi, Linda | Franklin, WI | 1/20/2004
Lucas, Christopher | Cullman, AL | 1/20/2004
Lytle, Joanne | Tombstone, AZ | 1/20/2004
Madigan, Thomas | Pittsburgh, PA | 1/20/2004
Marer, Kimberly | Sarasota, FL | 1/20/2004
Marsh, Freda | Martinsville, IN | 1/20/2004
Martin, Bobbi | Tulsa, OK | 1/20/2004
Martin, Penny | Little Rock, AR | 1/20/2004
Mason, Anne | Cullman, AL | 1/20/2004
Maynard, Rohnna | Georgeown, KY | 1/20/2004
McCarthy, John | Denver, CO | 1/20/2004
McNamee, Brian | Strongsville, OH | 1/20/2004
Miksis, Mary | Mt Holly, NJ | 1/20/2004
Miller, Thomas | Myrtle Beach, SC | 1/20/2004
Miller, Tracy | Valrico, FL | 1/20/2004
Molisky, Jon | Youngstown, OH | 1/20/2004
Monroe, William | Pensacola, FL | 1/20/2004
Montesano, Anna | Tucson, AZ | 1/20/2004
Mort, Teresa | Middleburg, FL | 1/20/2004
Nickoson, Cheryl | Houma, LA | 1/20/2004
Norris, Linda | Florence, MS | 1/20/2004
Nulf, Linda | Rockford, IL | 1/20/2004
O'Connor, Kelly | Green Bay, WI | 1/20/2004
O'Riordan, Patrick | Boynton Beach, FL | 1/20/2004
Oben, Francis | Chicago, IL | 1/20/2004
Owens, Angelia | New Port Richey, FL | 1/20/2004
Pantelis, M | Cranberry Township, PA | 1/20/2004
Payne, Beatrice | Phoenix, AZ | 1/20/2004
Perea, Brenda | St Petersburg, FL | 1/20/2004
Petty, Annmarie | Peoria, AZ | 1/20/2004
Pickett, Cindy | Greensboro Bend, VT | 1/20/2004
Pithoud, Brenda | Vancouver, WA | 1/20/2004
Post, John | Lomita, CA | 1/20/2004
Powell, Kaylene | Everett, WA | 1/20/2004
Powell, Sharon | McGehee, AR | 1/20/2004
Prine, Richard | Anchorage, AK | 1/20/2004
Pruitt, Scotty | Machesney Park, IL | 1/20/2004
Quinones, Henry | San Andreas, CA | 1/20/2004
Rausch, Jeffrey | Waterloo, IA | 1/20/2004
Rayburn, Mildred | Gautier, MS | 1/20/2004
Richardson, Jackie | Wilkesboro, NC | 1/20/2004
Rodwell, Penny | Pacific, WA | 1/20/2004
Romero, Yolanda | Baltimore, MD | 1/20/2004
Ronan, John | Chicago, IL | 1/20/2004
Ruch, David | Arlington Hgts, IL | 1/20/2004
Rucker, Cassandra | Vandalia, MO | 1/20/2004
Russo, Sharon | Trussville, AL | 1/20/2004
Ruszczyk, Judy | Glendale, CO | 1/20/2004
Sapp, Clark | Clearwater, FL | 1/20/2004
Sayers, Rhonda | Harrison, AR | 1/20/2004
Schmitz, Karla | Gulf Breeze, FL | 1/20/2004
Sciamatore, Mary | Poughkeepsie, NY | 1/20/2004
Scofield, April | Ashford, AL | 1/20/2004
Shin, Thomas | Garden Grove, CA | 1/20/2004
Smith, Dorothy | Mobile, AL | 1/20/2004
Smith, Vanessa | Gulfport, MS | 1/20/2004
Smith, William | Panama City, FL | 1/20/2004
Sonnier, Glenda | Maurice, LA | 1/20/2004
Standland, Roger | Greenwood, FL | 1/20/2004
Stephenson, Carole | Meridian, MS | 1/20/2004
Stone, Teresa | Milton, FL | 1/20/2004
Terrell, Nancy | Gulfport, FL | 1/20/2004
Thompson, Jodi | Lake Mary, FL | 1/20/2004
Thompson, Shannon | Kailua-Kona, HI | 1/20/2004
Tripi, Pamela | Phoenix, AZ | 1/20/2004
Turner, Mary | Rockledge, FL | 1/20/2004
Uluave, Peter | American Fork, UT | 1/20/2004
Vails, Sharon | Stigler, OK | 1/20/2004
Vandergrift, Ashlie | Albertville, AL | 1/20/2004
Ventura, Leopoldina | Petaluma, CA | 1/20/2004
Ward, Rita | Indianapolis, IN | 1/20/2004
Watson, Deidre | Houston, TX | 1/20/2004
Westmoreland, Rosetta | Salisbury, NC | 1/20/2004
Whitten, Anne | Miami, FL | 1/20/2004
Willey, Peter | Milton, VT | 1/20/2004
Williams, Diane | Bloomington, MN | 1/20/2004
Williams-Smith, Mary | Batesville, MS | 1/20/2004
Woods, Teri | Springville, AL | 1/20/2004
Young, Emanuel | Proctor, AR | 1/20/2004
Younger, Dia | Gainesville, FL | 1/20/2004
Zryd, Tonya | Elizabethtown, KY | 1/20/2004
Federal/State Exclusion/Suspension:
Martinez, Sylvia | Los Angeles, CA | 1/20/2004
Fraud/Kickbacks:
Hahn, Joan | Idaho Falls, ID | 11/6/2003
Owned/Controlled By Convicted Entities:
Aloha Osteopathic Professionals, Ltd | Honolulu, HI | 1/20/2004
Confortec Dme, Inc | Miami, FL | 1/20/2004
Highland Park Healthcare Center | Los Angeles, CA | 1/20/2004
Pain Management Center Of Dayton, Inc | Dayton, OH | 1/20/2004
Palm Canyon Dental | Palm Springs, CA | 1/20/2004
Vein Institute @ Vail Holdings, Inc | Littleton, CO | 1/20/2004
Default On Heal Loan:
Gray, David | San Francisco, CA | 1/20/2004
Hight, Gregory | Nevada City, CA | 12/10/2003
Justice, Glenn | Las Vegas, NV | 11/17/2003
Kinsey, Ronald | Columbia, SC | 1/20/2004
Lui, Suk-Ching | St Louis, MO | 1/20/2004
McKinnon, Laurie | San Francisco, CA | 1/20/2004
Shapley, Kevin | Overland Park, KS | 1/20/2004

Dated: January 6, 2004.
Katherine B. Petrowski,
Director, Exclusions Staff, Office Of Inspector General.

[FR Doc. 04-869 Filed 1-14-04; 8:45 am]

BILLING CODE 4150-04-P